DEPARTMENT OF COMMERCE

National Oceanic and Atmospheric Administration

[I.D. 101806F]

Endangered and Threatened Species; Take of Anadromous Fish

AGENCY: National Marine Fisheries Service (NMFS), National Oceanic and Atmospheric Administration (NOAA), Department of Commerce.

ACTION: Receipt of application for research permit; request for comments.

SUMMARY: Notice is hereby given that NMFS has received an application for a permit for an Endangered Species Act (ESA) scientific research from California Department of Fish and Game Glenn Colusa Irrigation District Fish Screen Facilities Office (DFG GCID FSFO) in Hamilton City, CA. This notice is relevant to federally endangered Sacramento River winter-run Chinook salmon (Oncorhynchus tshawytscha), threatened Central Valley spring-run Chinook salmon (O. tshawytscha), threatened Central Valley steelhead (O. mykiss), and threatened Southern Distinct Population Segment (DPS) of North American green sturgeon (Acipenser medirostris). This document serves to notify the public of the availability of the permit application for review and comment.

DATES: Written comments on the permit applications must be received at the appropriate address or fax number (see ADDRESSES) no later than 5 p.m. Pacific Standard Time on November 24, 2006.

ADDRESSES: Written comments on the permit application should be sent to the appropriate office as indicated below. Comments may also be sent via e-mal to FRNpermit.sac@noaa.gov or fax to the number indicated for the request. The application and related documents are available for review by appointment: Protected Resources Division, NMFS, 650 Capitol Mall, Suite 8-300, Sacramento, CA 95814 (ph: 916-930-3615, fax: 916-930-3629).

FOR FURTHER INFORMATION CONTACT: Russell Bellmer, Ph.D. by telephone at 916-930-3615, or e-mail: FRNpermit.sac@noaa.gov.

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to Federally endangered Sacramento River winter-run Chinook salmon (Oncorhynchus tshawytscha), threatened Central Valley spring-run Chinook salmon (O. tshawytscha), threatened Central Valley steelhead (O. mykiss), and threatened Southern Distinct Population Segment of North American green sturgeon (Acipenser medirostris).

Applications Received

DFG GCID FSFO requests a 5-year permit 1582 with an annual estimated take of 4,000 juvenile winter-run Chinook Salmon, 20,000 spring-run Chinook Salmon, and 4,000 Central Valley steelhead (with 2 percent incidental mortality) to monitor emigration behavior in the Sacramento River in California. DFG GCID FSFO requests authorization for this estimated annual take resulting from capturing, measuring, transporting, and releasing fish that may be caught by 8-foot (2.44m) diameter rotary screw trap deployed to specifically capture juvenile Chinook salmon in the Sacramento River near River near Mile 205 (Lat. 39°79′ 00′ N, long. 122° 05′ 00″ W). A sub-sample of 50 salmon juveniles will be placed into a bucket containing a solution of Tricaine methanesulfonate (MS-222) and anaesthetized. Individuals are measured and identified to species or race. DFG GCID FSFO requests authorization for an estimated annual take of 10 adult Sacramento River winter-run Chinook salmon, 10 adult Central Valley spring-run Chinook salmon, and 10 adult Central Valley steelhead (with 1 percent incidental mortality) resulting from capture and release of the fish.

DFG GCID FSFO will take a total of 90 juveniles of the threatened Southern DPS of North American green sturgeon (with 1 percent incidental mortality) resulting from capture and release of the fish.

Dated: October 19, 2006.
Angela Somma,
Chief, Endangered Species Division, Office of Protected Resources, National Marine Fisheries Service.

[FR Doc. E6-17892 Filed 10-24-06; 8:45 am]

BILLING CODE 3510-22-S